DEPARTMENT OF THE INTERIOR

Bureau of Land Management

[LLWO2100000 L11100000.DQ0000.LXSISGST0000]

Notice of Availability of the Rocky Mountain Region Greater Sage-Grouse Proposed Land Use Plan Amendments and Final Environmental Impact Statements for the Wyoming, Northwest Colorado, Lewistown, and North Dakota Sub-Regions.

AGENCY: Bureau of Land Management, Interior.

ACTION: Notice of availibility.

SUMMARY: In accordance with the National Environmental Policy Act of 1969 (NEPA), as amended, the Federal Land Policy and Management Act of 1976 (FLPMA), as amended, and the Resources Planning Act of 1974, as amended by the National Forest Management Act of 1976 (NFMA), the Bureau of Land Management (BLM) and U.S. Forest Service have prepared Proposed Land Use Plan Amendments (LUPA) and Final Environmental Impact Statements (EISs) for planning units in Wyoming, Lewistown (Montana), Northwest Colorado, and North Dakota. There are four separate Final EISs being conducted in the Rocky Mountain Region and this notice announces the availability of all four.

DATES: BLM planning regulations state that any person who meets the conditions as described in the regulations may protest the BLM's and Forest Service's Proposed LUP/Final EIS. A person who meets the conditions and files a protest must file the protest within 30 days of the date that the Environmental Protection Agency publishes its Notice of Availability in the Federal Register. In accordance with 36 CFR 219.59, the Forest Service will waive its objection procedures of this subpart and instead adopt the BLM's protest procedures outlined in 43 CFR 1610.5-2.

ADDRESSES: Copies of the Wyoming, Lewistown, Northwest Colorado, and North Dakota Greater Sage-Grouse Proposed LUPAs/Final EISs have been sent to affected Federal, State and local government agencies, tribal governments, and to other stakeholders and members of the public who have requested copies. Copies of the Proposed LUPAs/Final EISs are available for public inspection at the addresses listed in the SUPPLEMENTARY INFORMATION section. Interested persons may also review the Proposed LUPAs/Final EISs on the Internet at http://www.blm.gov/wo/st/en/prog/more/sagegrouse.html.

All protests must be in writing and mailed to one of the following addresses:

Regular Mail: BLM Director (210), Attention: Protest Coordinator, P.O. Box 71383, Washington, DC 20024-1383.

Overnight Delivery: BLM Director (210), Attention: Protest Coordinator, 20 M Street SE., Room 2134LM, Washington, DC 20003.

FOR FURTHER INFORMATION CONTACT:

For the Wyoming Greater Sage-Grouse Proposed LUPA/Final EIS: William West, BLM Planning and Environmental Coordinator, telephone 307-352-0259; address Rock Springs Field Office, 280 Highway 191 North, Rock Springs, Wyoming 82901; email wwest@blm.gov.

For the Northwest Colorado Greater Sage-Grouse Proposed LUPA/Final EIS: Erin Jones, BLM Northwest District NEPA Coordinator, telephone 970-244-3008; address Northwest District Office, 2815 H Road, Grand Junction, CO, 81506; email erjones@blm.gov.

For the Lewistown Greater Sage-Grouse Proposed LUPA/Final EIS: Adam Carr, BLM Project Lead, telephone 406-538-1913; address Lewistown Field Office, 920 Northeast Main, Lewistown, MT 59457; email acarr@blm.gov.

For the North Dakota Greater Sage-Grouse Proposed LUPA/Final EIS: Ruth Miller, BLM Team Lead, telephone 406- 896-5023; address Montana/Dakotas State Office, 5001 Southgate Drive, Billings, MT, 5910; email ramiller@blm.gov.

Persons who use a telecommunications device for the deaf (TDD) may call the Federal Information Relay Service (FIRS) at 1-800-877-8339 to contact the above individuals during normal business hours. The FIRS is available 24 hours a day, 7 days a week, to leave a message or question with the above individual. You will receive a reply during normal business hours.

SUPPLEMENTARY INFORMATION: The BLM and Forest Service prepared the Wyoming and Northwest Colorado Greater Sage-Grouse LUPAs and EISs. The Lewistown and North Dakota EISs were prepared solely by the BLM because there were no National Forest System lands involved. All four of these Proposed LUPAs/Final EISs address a range of alternatives focused on specific conservation measures across the range of the Greater Sage-Grouse (GRSG). All four of these EISs are part of a total of 15 separate EISs that make up the BLM and Forest Service National Greater Sage-Grouse Planning Strategy. These four EISs will amend the following BLM Resource Management Plans (RMPs) and Forest Service Land and Resource Management Plans (LRMP) in the Rocky Mountain Region:

Wyoming

• Casper RMP (2007)

• Kemmerer RMP (2010)

• Newcastle RMP (2000)

• Pinedale RMP (2008)

• Rawlins RMP (2008)

• Green River RMP (1997) (being revised under the Rock Springs RMP)

• Bridger-Teton National Forest, LRMP (1990)

• Medicine Bow National Forest, LRMP (2003)

• Thunder Basin National Grassland, LRMP (2002)

Northwest Colorado

• Glenwood Springs RMP (1984)

• Grand Junction RMP (1987)

• Kremmling RMP (1984)

• Little Snake RMP (2011)

• White River RMP (1997)

• Routt National Forest, LRMP (1997)

Lewistown (Montana)

• Judith RMP (1994)

• Headwaters RMP (1984)

North Dakota

• North Dakota RMP (1988)

Management decisions made as a result of these Proposed LUPAs/Final EISs will apply only to BLM-administered and National Forest System lands in the planning area. The planning areas for all four EISs includes approximately 56.3 million acres of BLM, National Park Service, Forest Service, U.S. Bureau of Reclamation, State, local, and private lands located in 17 Wyoming counties (Albany, Campbell, Carbon, Converse, Crook, Fremont, Goshen, Laramie, Lincoln, Natrona, Niobrara, Platte, Sublette, Sweetwater, Teton, Uinta, and Weston), 10 Colorado counties (Eagle, Garfield, Grand, Jackson, Larimer, Mesa, Moffat, Rio Blanco, Routt, and Summit), five Montana counties (Petroleum, Fergus, Judith Basin, Chouteau, and Meagher), and three North Dakota counties (Bowman, Slope, and Golden Valley). The decision area for these Proposed LUP Amendments/Final EISs is defined as those BLM-admistered and National Forest System lands and Federal mineral estate within the following habitat management categories:

• Priority Habitat Management Area (PHMA)—Areas identified as having the highest conservation value for maintaining sustainable GRSG populations; includes breeding, late brood-rearing, and winter concentration areas.

• Linkage Habitat (applicable to Northwest Colorado only)—Areas identified as broader regions of connectivity important to facilitate the movement of GRSG and maintain ecological processes.

• General Habitat Management Area (GHMA)—Areas of seasonal or year-round GRSG habitat outside of PHMAs.

The Notice of Intent (NOI) to prepare the Wyoming, Northwest Colorado, Lewistown, and North Dakota Greater Sage-Grouse LUPAs/EISs was published in the Federal Register on December 9, 2011. The Wyoming Draft LUPA/EIS was released to the public on December 27, 2013; the Northwest Colorado Draft LUPA/EIS was released to the public on August 16, 2013; the Lewistown Draft LUPA/Draft EIS was released to the public on November 8, 2013; and the North Dakota Draft LUPA/EIS was released to the public on September 27, 2013.

Comments on the Draft LUP Amendments/EISs received from the public and internal BLM and Forest Service review were considered and incorporated, as appropriate, into the Proposed Plan.

The alternatives presented in Proposed LUPAs/Final EISs are described below:

• Alternative A would retain the current management goals, objectives and direction specified in the existing BLM RMPs and the Forest Service LRMPs.

• Alternative B is based on the conservation measures developed by the National Technical Team (NTT) planning effort in Washington Office Instructional Memorandum (IM) Number 2012-044. As directed in the IM, the conservation measures developed by the NTT must be considered and analyzed, as appropriate, through the land use planning process and NEPA by all BLM state and field offices that contain occupied GRSG habitat. Most management actions included in Alternative B would be applied to PHMAs.

• Alternative C is based on a citizen groups' recommended alternative. This alternative emphasizes improvement and protection of habitat for GRSG and is applied to all occupied GRSG habitat. Alternative C would limit commodity development in areas of occupied GRSG habitat, and would close or designate portions of the planning area to some land uses.

• Alternative D, which was identified as the Preferred Alternative in the Draft EIS, balances opportunities to use and develop the planning area and ensures protection of GRSG habitat based on scoping comments and input from Cooperating Agencies involved in the alternatives development process. Protective measures would be applied to GRSG habitat.

• The Proposed LUPA incorporates guidance from specific State Conservation strategies, as well as additional management based on the NTT recommendations. This alternative emphasizes management of GRSG seasonal habitats and maintaining habitat connectivity to support population objectives. For the Wyoming Proposed LUPA, this guidance is consistent with guidelines provided in the Governor's Sage-Grouse Implementation Team's Core Population Area strategy and the Governor's Executive Order (WY E.O. 2011-05).

The BLM and Forest Service received approximately 3,500 substantive comments, contained in 39,000 submissions during the Draft EISs' comment periods. Based on comments received during the NEPA process, the following topics were frequently identified:

• General (Process/Policy);

• Lands and Realty;

• Livestock Grazing;

• Minerals and Energy;

• Predation;

• Recreation;

• Socioeconomic;

• Special Management Area Designations;

• Special Status Species (Including GRSG);

• Travel and Access Management;

• Vegetation;

• Wildland Fire Management;

• Wildlife and Fisheries.

For the Wyoming GRSG Proposed LUPA/Final EIS, the BLM and Forest Service conducted six public meetings on the Draft EIS. These meetings were held in Casper, Douglas, Laramie, Pinedale, Rawlins and Rock Springs, Wyoming during February 2014. For the Northwest Colorado GRSP Proposed LUPA/Final EIS, the BLM and Forest Service conducted four public meetings on the Draft EIS. These meetings were held in Walden, Lakewood, Silt, and Craig, Colorado during October 2013. For the Lewistown GRSG Proposed LUPA/Final EIS, the BLM conducted two public meetings on the Draft EIS. These meetings were held in Lewistown and Winnett, Montana during December 2013. For the North Dakota GRSG Proposed LUPA/Final EIS, the BLM conducted one public meeting in Bowman, North Dakota on October 22, 2013. Comments on the Draft LUPAs/Draft EISs received from the public and internal BLM and Forest Service review were carefully considered and incorporated as appropriate into the proposed LUPAs/Final EISs. The BLM and Forest Service, via the Western Association of Fish and Wildlife Agencies (WAFWA) Management Zone Greater Sage-Grouse Conservation Team, will develop a Regional Mitigation Strategy to guide the application of the mitigation hierarchy to address impacts within that Zone. The Regional Mitigation Strategy should consider any State-level GRSG mitigation guidance that is consistent with the requirements. The Regional Mitigation Strategy will be developed in a transparent manner, based on the best science available and standardized metrics.

Copies of the Wyoming Greater Sage-Grouse Proposed LUPA/Final EIS are available for public inspection at:

• BLM Wyoming State Office, 5353 Yellowstone Road, Cheyenne, Wyoming 82009

• BLM Casper Field Office, 2987 Prospector Drive, Casper, Wyoming 82604

• BLM Kemmerer Field Office, 312 Highway 189 North, Kemmerer, Wyoming 83101

• BLM Newcastle Field Office, 1101 Washington Boulevard, Newcastle, Wyoming 82701

• BLM Pinedale Field Office, 1625 West Pine Street, Pinedale, Wyoming 82941

• BLM Rawlins Field Office, 1300 North Third, Rawlins, Wyoming 82301

• BLM Rock Springs Field Office, 280 Highway 191 North, Rock Springs, Wyoming 82901

• Bridger-Teton National Forest, 340 North Cache, Jackson, Wyoming 83001

• Medicine Bow-Routt National Forests and Thunder Basin National Grassland, 2468 Jackson Street, Laramie, Wyoming 82070

Copies of the Northwest Colorado Greater Sage-Grouse Proposed LUPA/Final EIS are available for public inspection at:

• BLM Northwest District Office, 2815 H Road, Grand Junction, Colorado, 81506

• BLM Colorado State Office, 2850 Youngfield Street, Lakewood, Colorado, 80215

• Medicine Bow-Routt National Forests and Thunder Basin National Grassland, 2468 Jackson Street, Laramie, Wyoming 82070

Copies of the Lewistown Greater Sage-Grouse Proposed LUPA/Final EIS are available for public inspection at:

• BLM Montana/Dakotas State Office, 5001 Southgate Drive, Billings, Montana, 59101

• BLM Lewistown Field Office, 920 Northeast Main, Lewistown, Montana 59457

Copies of the North Dakota Greater Sage-Grouse Proposed LUPA/Final EIS are available for public inspection at:

• BLM Montana/Dakotas State Office, 5001 Southgate Drive, Billings, Montana, 59101

• BLM North Dakota Field Office, 99 23rd Avenue East, Suite A, Dickinson, North Dakota, 58601

Instructions for filing a protest with the Director of the BLM regarding the Proposed LUPAs/Final EISs may be found in the “Dear Reader” Letter of the Proposed LUPAs/Final EISs and at 43 CFR 1610.5-2. All protests must be in writing and mailed to the appropriate address, as set forth in the ADDRESSES section above. Emailed protests will not be accepted as valid protests unless the protesting party also provides the original letter by either regular mail or overnight delivery postmarked by the close of the protest period. Under these conditions, the BLM and Forest Service will consider an emailed protest as an advance copy and it will receive full consideration. If you wish to provide the BLM and Forest Service with such advance notifications, please direct emails to protest@blm.gov.

Before including your address, phone number, email address, or other personal identifying information in your protest, you should be aware that your entire protest—including your personal identifying information—may be made publicly available at any time. While you may ask us in your protest to withhold your personal identifying information from public review, we cannot guarantee that we will be able to do so.

Amy Lueders,
Acting Assistant Director, Renewable Resources & Planning.

Authority: 36 CFR 219.59, 40 CFR 1506.6, 40 CFR 1506.10, 43 CFR 1610.2; 43 CFR 1610.5

[FR Doc. 2015-12950 Filed 5-28-15; 8:45 am]

BILLING CODE 4310-22-P